DEPARTMENT OF HOMELAND SECURITY

U.S. Customs and Border Protection

[OMB Control Number 1651-0143]

Agency Information Collection Activities; Revision; Advance Travel Authorization (ATA)

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than June 24, 2024) to be assured of consideration.

ADDRESSES: Written comments and/or suggestions regarding the item(s) contained in this notice should be sent within 30 days of publication of this notice to www.reginfo.gov/public/do/PRAMain. Please submit written comments and/or suggestions in English. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (88 FR 62810) on September 13, 2023, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Advance Travel Authorization (ATA).

OMB Number: 1651-0143.

Form Number: N/A.

Current Actions: Revision to an existing collection of information with an increase in total annual burden.

Type of Review: Revision.

Affected Public: Individuals.

Abstract: The Department of Homeland Security (DHS) established new parole processes to allow certain noncitizens from certain countries, and their qualifying immediate family members to request advance authorization to travel to the United States to seek a discretionary grant of parole, issued on a case-by-case basis. To support these processes, U.S. Customs and Border Protection (CBP) developed the Advance Travel Authorization (ATA) capability, which allows individuals to submit information within the CBP One™ application as part of the process. Through an emergency approval, CBP established the ATA collection. Initially, this capability was utilized by Venezuelan citizens and their qualifying immediate family members seeking authorization to travel to the United States under the DHS-established parole process for Venezuelans.¹ DHS later developed similar parole processes for citizens of Cuba,² Haiti,³ and Nicaragua ⁴ and their qualifying immediate family members. The four processes are collectively known as the CHNV process. There is no numerical cap on the number of noncitizens from these four countries who may apply; however, there is a 30,000 limit on the number of travel authorizations DHS may issue each month across the CHNV process. Additionally, participation is limited in the ATA capability to those individuals who meet certain DHS-established criteria, including, but not limited to, possession of a valid, unexpired passport, as well as having an approved U.S.-based financial supporter.

¹ 87 FR 63507 (Oct. 19, 2022). See also 88 FR 1279 (Jan. 9, 2023) (updating the process announced in 2022).

² 88 FR 1266 (Jan. 9, 2023), as amended by 88 FR 26329 (Apr. 28, 2023).

³ 88 FR 1243 (Jan. 9, 2023), as amended by 88 FR 26327 (Apr. 28, 2023).

⁴ 88 FR 1255 (Jan. 9, 2023).

ATA requires the collection of a facial photograph via CBP One™ from those noncitizens who voluntarily elect to participate in the CHNV process, in order to provide accurate identity information for completion of vetting in advance of issuance of a travel authorization.

Advance Travel Authorization (ATA)

The biographic information collected on the I-134A is passed to CBP systems to allow the individual to complete their CBP One submission. The information the individual enters in CBP One must match the I-134A. The facial biometrics collected from noncitizens for the CHNV process will be linked to biographic information provided by the individual to U.S. Citizenship and Immigration Services (USCIS). This information collection will facilitate the vetting of noncitizens seeking to obtain advance authorization to travel. This collection will also give air carriers that participate in CBP's Document Validation (DocVal) program the ability to validate an approved advance authorization to travel, facilitating generation of a noncitizen's boarding pass without having to use other manual validation processes.

CBP One™ allows the user to capture the required biometrics, currently limited to a live facial photograph, and confirm submission after viewing the captured image. If the user is not satisfied with the image captured, the user can retake the image. If the image capture is unsuccessful, CBP One™ will provide the user with an error message stating that the submission was unsuccessful and permitting the user to try again. If the user continues to experience technical difficulties, the CBP One™ application provides a help desk email to request assistance.

CBP conducts vetting to determine whether the individual poses a security risk to the United States, and to determine whether the individual is eligible to receive advance authorization to travel to the United States to seek a discretionary grant of parole at the port of entry (POE). In the event that an advance authorization to travel may be denied because of a facial photograph match found in criminal databases or if there is a mismatch that limits the ability to confirm identity, then the match or mismatch will be verified by a CBP officer before the advance travel authorization is officially denied.

If the advance travel authorization is denied, the individual will not be authorized to travel to the United States to seek parole under the CHNV process. In the event that the user is not authorized to travel under this process, the user may still seek entry to the United States through another process, including by filing a request for consideration of parole with USCIS or applying with the Department of State (DOS) to obtain a visa. If travel authorization is approved, the approval establishes that the individual has obtained advance authorization to travel to the United States to seek a discretionary grant of parole, consistent with 8 CFR 212.5(f), but does not guarantee boarding or a specific processing disposition at a POE. Upon arrival at a U.S. POE, the traveler will be subject to inspection by a CBP officer, who will make a case-by-case processing disposition determination.

This collection of information is authorized by sections 103 and 212(d)(5) of the Immigration and Nationality Act (8 U.S.C. 1103 and 1182(d)(5)), and 8 CFR 212.5(f). DHS has also publicly announced the CHNV process policy and accompanying collection on its website and has also published Federal Register notices for each of the named countries, as noted above.

CBP One™ collects the following information from the individual submitting a request for an advance authorization to travel to the United States to seek parole under the CHNV process:

1. Facial Photograph

2. Photo obtained from the passport or Chip on ePassport, where available

3. Alien Registration Number

4. First and Last Name

5. Date of Birth

6. Passport Number

Additionally, CBP further revised this collection through another emergency submission to include individuals seeking to travel to the United States as part of the Family Reunification Parole (FRP) processes using the existing ATA capability to submit information to CBP, as updated for certain nationals of Cuba ⁵ and Haiti,⁶ and as implemented for certain nationals of Colombia,⁷ Guatemala,⁸ Honduras,⁹ El Salvador,¹⁰ and Ecuador.¹¹ The FRP processes begin with an invitation being sent to a petitioner who previously received an approved Form I-130, Petition for Alien Relative, on behalf of the potential principal beneficiary, and if applicable, the beneficiary's accompanying derivative beneficiaries. The petitioner then submits a Form I-134A, Online Request to be a Supporter and Declaration of Financial Support, on behalf of the potential principal beneficiary, and if applicable, the beneficiary's accompanying derivative beneficiaries. For those petitioners whose Form I-134A is confirmed by USCIS, the beneficiaries will receive an email with instructions to create an online account with myUSCIS. There, the potential beneficiary will confirm their biographic information and complete attestations, and then receive instructions to download the CBP One™ mobile application to continue through the process. USCIS will send the biographic information to CBP. Additionally, once the beneficiary completes their CBP One™ submission, utilizing the ATA capability, CBP will conduct vetting, and if appropriate, issue an advance authorization to travel.

⁵ 88 FR 54639 (Aug. 11, 2023).

⁶ 88 FR 54635 (Aug. 11, 2023).

⁷ 88 FR 43591 (July 10, 2023).

⁸ 88 FR 43581 (July 10, 2023).

⁹ 88 FR 43601 (July 10, 2023).

¹⁰ 88 FR 43611 (July 10, 2023).

¹¹ 88 FR 78762 (Nov. 16, 2023).

The information collected as part of these new FRP processes is the same as that which is already collected from other populations through ATA. This information collection will facilitate the vetting of noncitizens seeking to obtain advance authorization to travel and will give air carriers that participate in CBP's DocVal program the ability to validate an approved travel authorization, facilitating generation of a noncitizen's boarding pass without having to use other manual validation processes.

New Changes

1. Adding Uniting for Ukraine (U4U) respondent group to collection:

In response to the President's commitment to welcome 100,000 Ukrainian citizens and others fleeing Russia's aggression, DHS, in coordination with DOS, established the Uniting for Ukraine (U4U) parole process on April 25, 2022.¹² This process allows certain Ukrainian citizens and their qualifying family members to submit certain identifying information to USCIS and CBP to facilitate the issuance of an advance authorization to travel to the United States to seek parole. At the time U4U was implemented, full ATA capability was not yet developed and CBP uses different processes to screen and vet Ukrainians seeking parole. Currently, individuals seeking to travel under U4U do not utilize CBP One™ or the ATA capability during their process. To align U4U with other DHS parole processes, including CHNV and FRP, the ATA capability will be implemented for those individuals requesting authorization to travel to the United States to seek a discretionary grant of parole. The ATA capability will be added as part of a step in the U4U process to facilitate the vetting of noncitizens seeking to obtain advance authorization to travel and will give air carriers that participate in CBP's DocVal program the ability to validate an approved travel authorization, facilitating generation of a noncitizen's boarding pass without having to use other manual validation processes.

¹² 87 FR 25040 (Apr. 27, 2022).

2. Adjusted Burden:

Furthermore, in coordination with USCIS, CBP has added to the burden estimate for this collection, to account for any potential expansion(s) that align with new or revised policies or processing capacity over the next three years.

3. New Data Element:

This revision also adds a new data element to this collection: the physical location (longitude/latitude) of device utilizing ATA at the time of any biometric information submission. This data element will further secure the submission process and provide accurate identity information for completion of vetting in advance of issuance of a travel authorization.

CBP invites comments from the public on all changes established by previously approved emergency submissions and the new proposed revisions listed in this FRN.

Type of Information Collection: Advance Travel Authorization (ATA).

Estimated Number of Respondents: 562,000.

Estimated Number of Annual Responses per Respondent: 1.

Estimated Number of Total Annual Responses: 562,000.

Estimated Time per Response: 10 minutes.

Estimated Total Annual Burden Hours: 93,667.

Dated: May 20, 2024.
Seth D Renkema,
Branch Chief, Economic Impact Analysis Branch, U.S. Customs and Border Protection.

[FR Doc. 2024-11341 Filed 5-22-24; 8:45 am]

BILLING CODE 9111-14-P